DEPARTMENT OF TRANSPORTATION

National Highway Traffic Safety Administration

[Docket No. NHTSA-2013-0044]

Reports, Forms and Record Keeping Requirements; Agency Information Collection Activity Under OMB Review

AGENCY: National Highway Traffic Safety Administration, U.S. Department of Transportation.

ACTION: Request for public comment on extension of a currently approved collection of information.

SUMMARY: In compliance with the Paperwork Reduction Act of 1995 (44 U.S.C. 3501 et seq.), this notice announces that the Information Collection Request (ICR) abstracted below has been forwarded to the Office of Management and Budget (OMB) for review and comment. The ICR describes the nature of the information collection and its expected burden. The Federal Register Notice with a 60-day comment period was published on April 3, 2013 [78 FR 20172]. No comments were received.

This document describes the collection of information for which NHTSA intends to seek OMB approval. The collection of information described is the “Make Inoperative Exemptions—49 CFR Part 595.” (OMB Control Number: 2127-0635)

DATES: Comments must be submitted on or before December 9, 2013.

FOR FURTHER INFORMATION CONTACT: Mr. Christopher J. Wiacek at U.S. Department of Transportation, NHTSA, 1200 New Jersey Avenue SE., West Building, Room W43-419, NVS-112, Washington, DC 20590. Mr. Wiacek's telephone number is (202) 366-4801 and fax number is (202) 366-7002.

SUPPLEMENTARY INFORMATION:

National Highway Traffic Safety Administration

Title: Make Inoperative Exemptions—49 CFR Part 595.

OMB Control Number: 2127-0635.

Type of Request: Extension of a currently approved collection.

Abstract: On February 27, 2001, NHTSA published a final rule (66FR12638) to facilitate the modification of motor vehicles so that persons with disabilities can drive or ride in them as passengers. In that final rule, the agency issued a limited exemption from a statutory provision that prohibits specified types of commercial entities from either removing safety equipment or features installed on motor vehicles pursuant to the Federal motor vehicle safety standards or altering the equipment or features so as to adversely affect their performance. The exemption is limited in that it allows repair businesses to modify only certain types of Federal required safety equipment and features, under specified circumstances. The regulation is found at 49 CFR part 595 subpart C, “Vehicle Modifications to Accommodate People with Disabilities.”

This final rule included two new “collections of information,” as that term is defined in 5 CFR part 1320, “Controlling Paperwork Burdens on the Public”: Modifier identification and a document to be provided to the owner of the modified vehicle stating the exemptions used for that vehicle and any reduction in load carrying capacity of the vehicle of more than 100 kg (220 lbs).

Modifiers who take advantage of the exemption created by this rule are required to furnish NHTSA with a written document providing the modifier's name, address, telephone number and a statement that the modifier is availing itself of the exemption. The rule requires:

“S595.6 Modifier Identification.

(a) Any motor vehicle repair business that modifies a motor vehicle to enable a person with a disability to operate, or ride as a passenger in, the motor vehicle and intends to avail itself of the exemption provided in 49 CFR 595.7 shall furnish the information specified in paragraphs (a)(1) through (3) of this section to: Administrator, National Highway Traffic Safety Administration, 1200 New Jersey Avenue SE., Washington, DC 20590.

(1) Full individual, partnership, or corporate name of the motor vehicle repair business.

(2) Residence address of the motor vehicle repair business and State of incorporation if applicable.

(3) A statement that the motor vehicle repair business modifies a motor vehicle to enable a person with a disability to operate, or ride as a passenger in, the motor vehicle and intends to avail itself of the exemption provided in 49 CFR 595.7.

(b) Each motor vehicle repair business required to submit information under paragraph (a) of this section shall submit the information not later than August 27, 2001. After that date, each motor vehicle repair business that modifies a motor vehicle to enable a person with a disability to operate, or ride as a passenger in, the motor vehicle and intends to avail itself of the exemption provided in 49 CFR 595.7 shall submit the information required under paragraph (a) not later than 30 days after it first modifies a motor vehicle to enable a person with a disability to operate, or ride as a passenger in, the motor vehicle. Each motor vehicle repair business who has submitted required information shall keep its entry current, accurate and complete by submitting revised information not later than 30 days after the relevant changes in the business occur.”

This requirement is a one-time submission unless changes are made to the business as described in paragraph (b).

Affected Public: Businesses that modify vehicles, after the first retail sale, so that the vehicle may be used by persons with disabilities.

Estimated Total Annual Burden: 1152 hours, and $50.04.

Estimated Number of Respondents: 595.

ADDRESSES: Send comments, within 30 days, to the Office of Information and Regulatory Affairs, Office of Management and Budget, 725 17th Street NW., Washington, DC 20503, Attention NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication.

Christopher J. Bonanti,
Associate Administrator for Rulemaking.

[FR Doc. 2013-26810 Filed 11-7-13; 8:45 am]

BILLING CODE 4910-59-P